DEPARTMENT OF HEALTH AND HUMAN SERVICES

National Institutes of Health

Center for Scientific Review; Amended Notice of Meeting

Notice is hereby given of a change in the meeting of the Neurobiology of Learning and Memory Study Section, May 31, 2007, 8 a.m. to June 1, 2007, 5 p.m., George Washington University Inn, 824 New Hampshire Ave., NW., Washington, DC 20037 which was published in the Federal Register on April 16, 2007, 72 FR 19011.

The meeting will be held one day only May 31, 2007, 8:30 a.m. to 5 p.m. The meeting location remains the same. The meeting is closed to the public.

Dated: April 19, 2007.
Jennifer Spaeth,
Director, Office of Federal Advisory Committee Policy.

[FR Doc. 07-2122 Filed 4-30-07; 8:45 am]

BILLING CODE 4140-01-M